DEPARTMENT OF ENERGY

Federal Energy Regulatory Commission

[Project No. 7019-050 Georgia]

Eastern Hydroelectric Corporation; Notice of Availability of Final Environmental Assessment

November 21, 2001.

In accordance with the National Environmental Policy Act of 1969 and the Federal Energy Regulatory Commission's (Commission) regulations, 18 CFR part 380 (Order No. 486, 52 FR 47897), the Office of Energy Projects has reviewed the application for license amendment for the East Juliette Hydroelectric Project, located on the Ocmulgee River in Monroe County, Georgia, and has prepared a Final Environmental Assessment (FEA) for the proposed license amendment. No federal lands or Indian reservations are occupied by project works or are located within the project boundary.

The FEA contains the staff's analysis of the potential environmental impacts of the proposed amendment and concludes that the proposed action, with staff recommended measures, would not constitute a major federal action that would significantly affect the quality of the human environment.

Copies of the FEA are available for review at the Commission's Public Reference Room, located at 888 First Street NE., Washington, DC 20426, or by calling (202) 208-1371. The FEA may be viewed on the web at http://www.ferc.gov using the RIMS link and selecting “Dockets” (call (202) 208-2222 for assistance).

For further information contact Jarrad Kosa, FERC Project Coordinator, at (202) 219-2831.

David P. Boergers,
Secretary.

[FR Doc. 01-29568 Filed 11-27-01; 8:45 am]

BILLING CODE 6717-01-P